DEPARTMENT OF THE INTERIOR

Bureau of Land Management

[WO-250-00-1220-PA-24 1A]

Notice of Bureau of Land Management National Off-Highway-Vehicle Strategy; Request for Comment

AGENCY: Bureau of Land Management, Interior.

ACTION: Notice and request for comment.

SUMMARY: Responding to an increasing public interest in issues surrounding the use of off-highway-vehicles (OHVs) on public lands, the Bureau of Land Management is announcing the public involvement phase of the National Off-Highway Vehicle Strategy, seeking public comments on OHV-related issues.

The Bureau of Land Management (BLM) is seeking ideas and solutions from the public on how best to ensure that the use of off-road vehicles on public lands will be controlled and directed so as to protect the resources of those lands. The BLM will develop a strategy based on public input to address land-management issues prompted by the growing popularity of OHV use.

DATES: You should submit your comments by August 31, 2000. BLM will not necessarily consider comments postmarked or received by messenger or electronic mail after the above date in the decisionmaking process on the OHV strategy.

ADDRESSES: Mail: Director (250), Bureau of Land Management, Administrative Record, Room 204 LS, 1849 C Street, NW., Washington, DC 20240.

Personal or messenger delivery: Room 204, 1620 L Street, NW, Washington, DC 20036.

Internet e-mail: Special comment site at www.blm.gov.

Mailer: We will send you an OHV mailer if you contact the Bureau of Land Management at 1849 C Street NW., LSB 406-C, Washington, DC 20240, Attn: Correspondence—WO 615

Other: We will also accept comments at local or State “listening meetings” which will be held by BLM or BLM Resource Advisory Councils (RACs).

FOR FURTHER INFORMATION CONTACT: Rodger E. Schmitt, National Recreation Group Manager, Bureau of Land Management, Washington, DC, at (202) 452-7771.

SUPPLEMENTARY INFORMATION: The goal of the OHV strategy is to provide local managers a framework for addressing issues such as current OHV designations, executive orders, regulations, trends in management and management approaches, route inventory needs, resource issues, special management and sensitive areas and resources, monitoring, education, law enforcement, and budget.

BLM management of OHVs is guided by Executive Orders 11644 made in 1972 and 11989 made in 1977, when only about five million OHVs were in use nationally. Today, that number has risen dramatically. In addition, technological advances now make it possible for these vehicles to travel over lands that were formerly inaccessible. Many of BLM's land use plans do not adequately address the increases in OHV use. In addition, BLM's budget-related resources—including the number of recreation specialists and law enforcement personnel—have not kept pace with the past decade's growth in OHV use. These factors, plus litigation over OHV management issues, have created the need for a national OHV management strategy.

Comments will be collected through August and will be analyzed and used to help BLM develop guidance for local solutions by November 30. Once the guidance is written, BLM will implement it locally with the help of public and private partners to achieve on-the-ground goals.

Jack Peterson,
Acting National Recreation Group Manager.

[FR Doc. 00-17216 Filed 7-6-00; 8:45 am]

BILLING CODE 4310-84-P